OFFICE OF PERSONNEL MANAGEMENT

Submission for Renewal: Information Collection 3206-0182; Declaration for Federal Employment, Optional Form (OF) 306

AGENCY: U.S. Office of Personnel Management.

ACTION: 60-Day Notice and request for comments.

SUMMARY: Federal Investigative Services (FIS), U.S. Office of Personnel Management (OPM) offers the general public and other Federal agencies the opportunity to comment on an expiring information collection request (ICR), Office of Management and Budget (OMB) Control No. 3206-0182, for the Declaration for Federal Employment, Optional Form (OF) 306. OPM is soliciting comments for this collection under 44 U.S.C. 3506(c)(2). The Office of Management and Budget (OMB) is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until October 14, 2014. This process is conducted in accordance with 5 CFR 1320.8(d).

ADDRESSES: Interested persons are invited to submit written comments on the proposed information collection to the Federal Investigative Services, U.S. Office of Personnel Management, 1900 E Street NW., Washington, DC 20415, Attention: Donna McLeod or sent by email to FISFormsComments@opm.gov.

FOR FURTHER INFORMATION CONTACT: A copy of this ICR, with applicable supporting documentation, may be obtained by contacting the Federal Investigative Services, U.S. Office of Personnel Management, 1900 E Street NW., Washington, DC 20415, Attention: Donna McLeod or sent by email to FISFormsComments@opm.gov.

SUPPLEMENTARY INFORMATION: The Declaration for Federal Employment Optional Form (OF) 306 is completed by applicants who are under consideration for Federal or Federal contract employment. It collects information about an applicant's selective service registration, military service, and general background. The information collected on this form is mainly used to determine a person's acceptability for Federal and Federal contract employment, and his or her retirement status and life insurance enrollment. However, if necessary, and usually in conjunction with another form or forms, the information on this form may be used in conducting an investigation to determine a person's suitability or ability to hold a security clearance, and it may be disclosed to authorized officials making similar, subsequent determinations.

The OF 306 requests that the applicant provide personal identifying data, including past convictions, imprisonments, probations, paroles or military court martial, delinquency on a Federal debt, Selective Service Registration, United States military service, Federal civilian or military retirement benefits received or applied for, and life insurance enrollment. It is estimated that 265,385 individuals will respond annually. Each form takes approximately 15 minutes to complete. The annual estimated burden is 66,346 hours.

OPM proposes no changes to the OF 306.

U.S. Office of Personnel Management.
Katherine Archuleta,
Director.

[FR Doc. 2014-19221 Filed 8-13-14; 8:45 am]

BILLING CODE 6325-53-P